DEPARTMENT OF HOMELAND SECURITY

Coast Guard

[Docket No. USCG-2009-0076]

Navigation Safety Advisory Council; Meeting

AGENCY: Coast Guard, DHS.

ACTION: Notice of meeting.

SUMMARY: The Navigation Safety Advisory Council (NAVSAC) will meet in May 2009 in Savannah, GA, to discuss various issues relating to the safety of navigation. The meeting will be open to the public.

DATES: NAVSAC will meet on Wednesday, May 20, 2009, from 8 a.m. to 5 p.m., and Thursday, May 21, 2009, from 8 a.m. to 5 p.m. The meeting may close early if all business is finished. Written material and requests to make oral presentations should reach the Coast Guard on or before May 5, 2009. Requests to have a copy of your material distributed to each member of the committee should reach the Coast Guard on or before May 5, 2009.

ADDRESSES: NAVSAC will meet at the Hyatt Regency Savannah, Two West Bay Street, Savannah, GA 31401. Send written material and requests to make oral presentations to Mr. John Bobb, the Assistant Designated Federal Officer (ADFO), Commandant (CG-54121), U.S. Coast Guard Headquarters, 2100 Second Street, SW., Washington, DC 20593-0001. This notice may be viewed in our online docket, USCG-2009-0076, at http://www.regulations.gov.

FOR FURTHER INFORMATION CONTACT: Mr. Mike Sollosi, the Designated Federal Officer (DFO) of NAVSAC, telephone 202-372-1545, or e-mail at mike.m.sollosi@uscg.mil, or Mr. John Bobb, the ADFO, telephone 202-372-1532, fax 202-372-1929, or e-mail at john.k.bobb@uscg.mil.

SUPPLEMENTARY INFORMATION: Notice of the meeting is given under the Federal Advisory Committee Act, 5 U.S.C. App. (Pub. L. 92-493).

Agenda of Meeting

The agenda for the May 20-21, 2009, NAVSAC meeting is as follows:

(1) Offshore Renewable Energy Installations (OREI) NVIC 02-07 Review.

(2) Unmanned Autonomous Vessels COLREGS Applicability.

(3) Barge Lighting Study.

(4) eNav User Needs Study.

(5) Vessel Traffic System.

Procedural

The meeting is open to the public. Please note that the meeting may close early if all business is finished. At the Chair's discretion, members of the public may make oral presentations during the meeting. If you would like to make an oral presentation at the meeting, please notify the DFO or ADFO no later than May 5, 2009. Written material for distribution at the meeting should reach the Coast Guard no later than May 5, 2009. If you would like a copy of your material distributed to each member of the committee in advance of the meeting, please submit 20 copies to the DFO or ADFO no later than May 5, 2009.

Information on Services for Individuals With Disabilities

For information on facilities or services for individuals with disabilities or to request special assistance at the meeting, contact the DFO or ADFO as soon as possible.

Dated: March 9, 2009.
Wayne A. Muilenburg,
Captain, U.S. Coast Guard, Office of Waterways Management.

[FR Doc. E9-7667 Filed 4-3-09; 8:45 am]

BILLING CODE 4910-15-P